DEPARTMENT OF HOMELAND SECURITY

Federal Emergency Management Agency

[Docket ID: FEMA-2017-0022; OMB No. 1660-0004]

Agency Information Collection Activities: Proposed Collection; Comment Request; Application for Participation in the National Flood Insurance Program (NFIP)

AGENCY: Federal Emergency Management Agency, DHS.

ACTION: Notice and request for comments.

SUMMARY: The Federal Emergency Management Agency, as part of its continuing effort to reduce paperwork and respondent burden, invites the general public to take this opportunity to comment on a reinstatement, without change, of a previously approved information collection for which approval has expired. In accordance with the Paperwork Reduction Act of 1995, this notice seeks comments concerning the collection of information under which communities submit information to FEMA for application and continued participation in the National Flood Insurance Program (NFIP).

DATES: Comments must be submitted on or before February 12, 2018.

ADDRESSES: To avoid duplicate submissions to the docket, please use only one of the following means to submit comments:

(1) Online. Submit comments at www.regulations.gov under Docket ID FEMA-2017-0022. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Adrienne L. Sheldon, Supervisory Emergency Management Specialist, Floodplain Management Division (202) 212-3966. You may contact the Records Management Division for copies of the proposed collection of information at email address: FEMA-Information-Collections-Management@fema.dhs.gov.

SUPPLEMENTARY INFORMATION: The National Flood Insurance Program (NFIP), codified at 42 U.S.C. 4001, et seq., requires all flood prone communities throughout the country to apply for participation in the NFIP one year after their flood prone status is identified or submit to the prohibition of certain types of federal and federally-related financial assistance for use in their floodplains. Title 44 Code of Federal Regulations (CFR) section 59.2 authorizes previously unavailable flood insurance protection to property owners in flood-prone areas, and 44 CFR 59.22 identifies the information that communities are required to submit to FEMA for application into the NFIP. 44 CFR 59.22 and 59.24 identify the information a community is required to submit to FEMA for continued participation in the program.

This information collection expired on September 30, 2017. FEMA is requesting a reinstatement, without change, of a previously approved information collection for which approval has expired.

Collection of Information

Title: Application for Participation in the National Flood Insurance Program (NFIP).

Type of Information Collection: Reinstatement, without change, of a previously approved collection for which approval has expired.

OMB Number: 1660-0004.

Form Titles and Numbers: FEMA Form 086-0-30, Application for Participation in the National Flood Insurance Program.

Abstract: The National Flood Insurance Program (NFIP) provides flood insurance to the communities that apply for participation and make a commitment to protect against future flood damages. The application form and supporting documentation will enable FEMA to continue to rapidly process new community applications and to thereby more quickly provide flood insurance protection to the residents in communities.

To qualify for the NFIP, a participating community must adopt certain minimum standards in accordance with FEMA's regulations at 44 CFR 60.3, 60.4, and 60.5. In order to verify whether communities maintain such standards, the NFIP requires participating communities to retain documentation on development taking place in the flood hazard areas within the community. 44 CFR 59.22. Such information will be made available to FEMA upon request. This information assists FEMA in evaluating the effectiveness of a community's floodplain management program and participating property owners' eligibility for flood insurance.

This reinstatement does not propose any change in the information solicited from respondents through this information collection; however, the number of burden hours has been updated to reflect changing number of respondents and responses received through this collection over time. These changes have occurred naturally, and do not result from specific action taken by FEMA.

The “Application for Participation in the NFIP” and the “NFIP and the Community Development Permit Process” are separate actions documented under the same collection.

Affected Public: State, local or Tribal government.

Estimated Number of Respondents: 22,367.

Estimated Number of Responses: 97,724.

Estimated Total Annual Burden Hours: 244,418.

Estimated Total Annual Respondent Cost: $20,946,623.

Estimated Total Annual Cost to the Federal Government: $ 83,041.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: December 5, 2017.
William Holzerland,
Director, Information Management Division Mission Support, Federal Emergency Management Agency, Department of Homeland Security.

[FR Doc. 2017-26815 Filed 12-12-17; 8:45 am]

BILLING CODE 9111-52-P